DEPARTMENT OF LABOR

Occupational Safety and Health Administration

[Docket No. OSHA-2007-0083]

Applied Research Laboratories of South Florida, LLC; Voluntary Termination of Recognition as a Nationally Recognized Testing Laboratory

AGENCY: Occupational Safety and Health Administration (OSHA), Labor.

ACTION: Notice.

SUMMARY: In this notice, OSHA announces the voluntary termination of recognition granted to Applied Research Laboratories of South Florida, LLC as a Nationally Recognized Testing Laboratory (NRTL).

DATES: The voluntary termination of recognition specified by this notice becomes effective on August 1, 2023.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration, U.S. Department of Labor; telephone: (202) 693-2110; email: robinson.kevin@dol.gov.

SUPPLEMENTARY INFORMATION:

I. Notice of Voluntary Termination of Recognition as a Nationally Recognized Testing Laboratory

On April 25, 2018, OSHA granted Applied Research Laboratories of South Florida, LLC (ARL) recognition as a Nationally Recognized Testing Laboratory (NRTL). The NRTL Program regulation, 29 CFR 1910.7 App. A, provides that, “[a]t any time, a recognized NRTL may voluntarily terminate its recognition, either in its entirety or with respect to any area covered in its recognition, by giving written notice to OSHA,” that “[t]he written notice shall state the date as of which the termination is to take effect, and that [t]he Assistant Secretary shall inform the public of any voluntary termination by Federal Register notice.”

ARL notified OSHA by a letter dated April 19, 2023 (OSHA-2007-0083-0057), that it would be closing its business effective July 31, 2023. In a subsequent email, dated May 25, 2023 (OSHA-2007-0038-0058), ARL confirmed that this letter constituted a voluntary and complete termination of ARL's recognition as a NRTL, effective August 1, 2023, as well as a voluntary withdrawal of any open NRTL scope expansions and NRTL renewal applications previously submitted to OSHA, also effective August 1, 2023.

Therefore, pursuant to the NRTL Program regulation, OSHA is informing the public that ARL has voluntary terminated its recognition.

II. Authority and Signature

James S. Frederick, Deputy Assistant Secretary of Labor for Occupational Safety and Health, 200 Constitution Avenue NW, Washington, DC 20210, authorized the preparation of this notice. Accordingly, the agency is issuing this notice pursuant to Section 29 U.S.C. 657(g)(2), Secretary of Labor's Order No. 8-2020 (85 FR 58393, Sept. 18, 2020), and 29 CFR 1910.7.

Signed at Washington, DC, on July 24, 2023.
James S. Frederick,
Deputy Assistant Secretary of Labor for Occupational Safety and Health.

[FR Doc. 2023-16131 Filed 7-31-23; 8:45 am]

BILLING CODE 4510-26-P